DEPARTMENT OF ENERGY

Federal Energy Regulatory Commission

[P-13160-011]

Red River Hydro, LLC; Notice of Application Accepted for Filing and Soliciting Comments, Motions To Intervene, and Protests

Take notice that the following hydroelectric application has been filed with the Commission and is available for public inspection.

a. Type of Application: Non-capacity amendment of license.

b. Project No.: P-13160-011.

c. Date Filed: December 10, 2018.

d. Applicant: Red River Hydro, LLC.

e. Name of Project: Overton Lock and Dam Hydroelectric Project.

f. Location: The unconstructed project would be located at the U.S. Army Corps of Engineer's John H. Overton Lock and Dam on the Red River in Rapides Parish, Louisiana.

g. Filed Pursuant to: Federal Power Act, 16 U.S.C. 791a-825r.

h. Applicant Contact: Paul Jacob, Red River Hydro, LLC, c/o Rye Development, 745 Atlantic Ave., 8th Floor, Boston, MA 02111, (617) 7010-3288.

i. FERC Contact: Marybeth Gay, (202) 502-6125, Marybeth.Gay@ferc.gov or Korede Olagbegi, (202) 502-6268, Korede.Olagbegi@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-13160-011.

k. Description of Request: The applicant proposes to replace the project's two authorized 26-megawatt (MW) turbine-generator units with six 8.1-MW turbine-generator units. The proposed action would reduce the total authorized installed capacity of the project from 52.0 to 48.6 MW, and the hydraulic capacity from 33,200 to 29,658 cubic feet per second. To accommodate the change from two to six units, the applicant proposes to increase the size of the powerhouse from 214 feet long by 112 feet wide, to 133 feet long by 236 feet wide, and raise the foundation from an elevation of -20 feet to +3 feet, which it states will pose less of a construction risk. The applicant does not propose changes to any other aspects of the project.

l. Locations of the Applications: A copy of the application is available for inspection and reproduction at the Commission's Public Reference Room, located at 888 First Street NE, Room 2A, Washington, DC 20426, or by calling (202) 502-8371. The filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502- 8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the temporary variance request. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 13, 2019.
Kimberly D. Bose,
Secretary.

[FR Doc. 2019-17720 Filed 8-16-19; 8:45 am]

BILLING CODE 6717-01-P